Title 3—

The President

Proclamation 8537 of June 18, 2010

Father’s Day, 2010

By the President of the United States of America

A Proclamation

From the first moments of life, the bond forged between a father and a child is sacred. Whether patching scraped knees or helping with homework, dads bring joy, instill values, and introduce wonders into the lives of their children. Father’s Day is a special time to honor the men who raised us, and to thank them for their selfless dedication and love.

Fathers are our first teachers and coaches, mentors and role models. They push us to succeed, encourage us when we are struggling, and offer unconditional care and support. Children and adults alike look up to them and learn from their example and perspective. The journey of fatherhood is both exhilarating and humbling—it is an opportunity to model who we want our sons and daughters to become, and to build the foundation upon which they can achieve their dreams.

Fatherhood also carries enormous responsibilities. An active, committed father makes a lasting difference in the life of a child. When fathers are not present, their children and families cope with an absence government cannot fill. Across America, foster and adoptive fathers respond to this need, providing safe and loving homes for children facing hardships. Men are also making compassionate commitments outside the home by serving as mentors, tutors, or big brothers to young people in their community. Together, we can support the guiding presence of male role models in the lives of countless young people who stand to gain from it.

Nurturing families come in many forms, and children may be raised by a father and mother, a single father, two fathers, a step-father, a grandfather, or caring guardian. We owe a special debt of gratitude for those parents serving in the United States Armed Forces and their families, whose sacrifices protect the lives and liberties of all American children. For the character they build, the doors they open, and the love they provide over our lifetimes, all our fathers deserve our unending appreciation and admiration.

NOW, THEREFORE, I, BARACK OBAMA, President of the United States of America, in accordance with a joint resolution of the Congress approved April 24, 1972, as amended (36 U.S.C. 109), do hereby proclaim June 20, 2010, as Father’s Day. I direct the appropriate officials of the Government to display the flag of the United States on all Government buildings on this day, and I call upon all citizens to observe this day with appropriate programs, ceremonies, and activities. Let us honor our fathers, living and deceased, with all the love and gratitude they deserve.

IN WITNESS WHEREOF, I have hereunto set my hand this eighteenth day of June, in the year of our Lord two thousand ten, and of the Independence of the United States of America the two hundred and thirty-fourth.

[FR Doc. 2010-15403

Filed 6-22-10; 11:15 am]

Billing code 3195-W0-P